DEPARTMENT OF LABOR

Employment and Training Administration

[TA-W-50,368]

The Flexaust Company, Inc., Appliance Division, Currently Known as Flexaust Appliance, Inc., El Paso, TX; Amended Certification Regarding Eligibility To Apply for Worker Adjustment Assistance

In accordance with section 223 of the Trade Act of 1974 (19 U.S.C. 2273) the Department of Labor issued Amended Certification Regarding Eligibility to Apply for Worker Adjustment Assistance on February 21, 2003, applicable to workers of The Flexaust Company, Inc., Appliance Division, El Paso, Texas. The notice was published in the Federal Register on March 10, 2003 (68 FR 11410).

At the request of a company official, the Department reviewed the certification for workers of the subject firm. The workers are engaged in the production of belts and hoses for vacuum cleaners.

New information shows that following a company name change, in January 2003, The Flexaust Company, Inc., Appliance Division is currently known as Flexaust Appliance, Inc. Workers separated from employment as the subject firm had their wages reported under a separated unemployment insurance (UI) tax account for Flexaust Appliance, Inc.

Accordingly, the Department is amending this certification to properly reflect this matter.

The intent of the Department's certification is to include all workers of The Flexaust Company, Inc., Appliance Division who were adversely affected by increased imports.

The amended notice applicable to TA-W-50,368 is hereby issued as follows:

All workers of The Flexaust Company, Inc., Appliance Division, currently known as Flexaust Appliance, Inc., El Paso, Texas, who became totally or partially separated from employment on or after December 7, 2001, through February 21, 2005, are eligible to apply for adjustment assistance under section 223 of the Trade Act of 1974.

Signed at Washington, DC this 30th day of September 2004.
Richard Church,
Certifying Officer, Division of Trade Adjustment Assistance.

[FR Doc. E4-2692 Filed 10-15-04; 8:45 am]

BILLING CODE 4510-30-P